POSTAL REGULATORY COMMISSION

39 CFR Part 3055

[Docket Nos. RM2022-7; Order No. 6275]

RIN 3211-AA32

Service Performance and Customer Satisfaction Reporting

AGENCY: Postal Regulatory Commission.

ACTION: Notice of proposed rulemaking.

SUMMARY: The Commission is proposing rules related to service performance and customer satisfaction reporting. This notice informs the public of the filing, invites public comment, and takes other administrative steps.

DATES: Comments are due: October 31, 2022.

ADDRESSES: For additional information, Order No. 6275 can be accessed electronically through the Commission's website at https://www.prc.gov. Submit comments electronically via the Commission's Filing Online system at https://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Relevant Statutory Requirements

II. Background

III. Basis and Purpose of Proposed Rules

I. Relevant Statutory Requirements

Section 3652(e)(1) of title 39 of the United States Code requires the Commission to prescribe the content and form of the public reports that the Postal Service files with the Commission. 39 U.S.C. 3652(e)(1). In doing so, the Commission must attempt to provide the public with timely information that is adequate to allow it to assess the lawfulness of Postal Service rates, should attempt to avoid unnecessary or unwarranted Postal Service effort and expense, and must endeavor to protect the confidentiality of commercially sensitive information. See id. The Commission may initiate proceedings to improve the quality, accuracy, or completeness of Postal Service reporting whenever it determines that the service performance data have become significantly inadequate, could be significantly improved, or otherwise require revision as necessitated by the public interest. 39 U.S.C. 3652(e)(2).

Additionally, section 3692 directs the Postal Service to develop and maintain a publicly available online “dashboard” that provides weekly service performance data for Market Dominant products and mandates that the Commission provide reporting requirements for this Postal Service dashboard as well as “recommendations for any modifications to the Postal Service's measurement systems necessary to measure and publish the performance information” located on the dashboard. 39 U.S.C. 3692(b)(2), (c). The Postal Service is also authorized to provide certain nonpostal services to the public and other Governmental agencies and consequently required to periodically report the quality of service for these nonpostal services. See 39 U.S.C. 3703-3705.

II. Background

Pursuant to 39 U.S.C. 503, 3652, 3653, 3692 and 3705, the Commission initiated Docket No. RM2022-7 to update the service performance reporting requirements codified in 39 CFR part 3055 and make the aforementioned additions for dashboard and nonpostal product reporting. On April 26, 2022, the Commission issued Order No. 6160, proposing several modifications to the reporting requirements, providing an opportunity for interested persons to comment, and appointing a Public Representative.¹ Included among these suggested modifications were proposals to require the Postal Service to report average actual days to delivery and point impact data, information regarding the performance for each national operating plan target, and data about mail excluded from measurement. Order No. 6160 at 5-6. The Commission also solicited comments on how best to effectuate the statutes requiring the Postal Service to report on nonpostal products and implement a performance dashboard. Id. at 6-8.

¹ Advance Notice of Proposed Rulemaking to Revise Periodic Reporting of Service Performance, April 26, 2022 (Order No. 6160).

The Commission received a wide range of comments in response to Order No. 6160, both discussing the suggested revisions and proposing additional amendments to the reporting requirements.

III. Basis and Purpose of Proposed Rules

After reviewing the commenters' suggestions and analysis, the Commission proposes the following rules.

First, the Commission proposes a provision requiring the Postal Service to report average actual “delivery days”—i.e., days in which Market Dominant products are eligible for delivery—for each Market Dominant product. The Commission finds the metric of average actual delivery days an easier metric to understand for some mailers than the percentage of on-time delivery metric. Under this proposed provision, the Postal Service must also report the following information on dispersion around the average: percent delivered within +1 day of service standard, percent delivered within +2 days of service standard, and percent delivered within +3 days of service standard. These data must be reported for each Market Dominant product at the current District, Postal Administrative Area (Area), and National levels both quarterly in the Service Performance Measurement (SPM) reports and annually in the Annual Compliance Review (ACR) reports.

Second, the Commission proposes a provision requiring the Postal Service to report point impact data for the top 10 root causes of on-time performance failures for each Market Dominant product (except those included in Special Services) that did not meet its service performance goal pursuant to § 3055.2(d). Balancing the utility of the data with the burden to the Postal Service, the Commission notes that point impact data is useful for isolating significant drivers of delay for products that do not meet their service performance goals while avoiding the additional costs of reporting on products that do. For First-Class Mail products that do not meet their service performance goals, the Postal Service must report the top 10 root causes of failure at both the Area level and National level. For the remaining Market Dominant products that do not meet service performance targets, the Postal Service must report the top 10 root causes of failure at the National level. Reporting must occur annually in the ACR.

Third, the Commission proposes that the Postal Service report data related to its Site-Specific Operating Plans (SSOPs), by Region and Division (as identified in the SSOPs) and at the National level, both quarterly and annually. The Commission originally suggested that the Postal Service report the performance for each national operating plan target; however, because the Postal Service reported that it no longer uses such targets, the Commission determined that SSOP information should be utilized instead. While these new data do not specifically address the performance of the entire postal network, they do provide performance data (i.e., percent on-time performance for each SSOP measurement category, such as “Flat Sequencing System”) subdivided into Regions and Divisions as well as at the National total.

Fourth, the Commission proposes that Postal Service report the performance of each nonpostal product in the ACR, as required by 39 U.S.C. 3705. The Commission proposes that these performance data be disaggregated by District and Area as well as for the Nation on an annual and quarterly basis.

Fifth, the Commission proposes that the Postal Service report: (a) mail excluded from measurement, disaggregated by reason(s) for exclusion; and (b) mail volumes measured and unmeasured by Full Service Intelligent Mail barcode (IMb). With respect to reporting such mail volumes disaggregated by reason for exclusion, the Commission proposes that the current quarterly report (filed as a spreadsheet attachment to the Postal Service's quarterly reports on service performance) be modified to include the number of mailpieces excluded from measurement for each exclusion category as well as the percentage of the total exclusions represented by that exclusion category. This additional reporting is warranted because the percentage calculations alone without the supporting volume data do not allow for the evaluation of performance trends over time. The Postal Service must report these data both on a quarterly basis on the same schedule as its Quarterly Reports pursuant to 39 CFR part 3055, subpart B (in other words, 40 days after the close of the quarter) and annually in the ACR. Regarding the report on mail volume measured and unmeasured by IMb, for each field in the current form (filed as a spreadsheet attachment to the Postal Service's quarterly reports on service performance), the Postal Service should also present the same data point from the same period in the previous year. In addition, the Postal Service should present for each product category: (1) the percentage of mailpieces in measurement compared to total mailpieces; (2) the percentage of mailpieces not in measurement compared to total mailpieces; (3) the percentage of Full-Service IMb mailpieces in measurement compared to total IMb Full-Service mailpieces; and (4) the percentage of Full-Service IMb mailpieces not in measurement compared to total IMb Full-Service mailpieces. These additional data points will be valuable for mailers and the Commission to evaluate measured and unmeasured mail volumes over time. The Postal Service should report these data on a quarterly basis, 60 days after the close of each quarter, and annually in the ACR. The Commission also proposes codifying the existing requirement that the Postal Service must provide descriptions of the current methodologies used to verify the accuracy, reliability, and representativeness of service performance data for each service performance measurement system 90 days after the close of each fiscal year.²

² Docket No. PI2016-1, Order Enhancing Service Performance Requirements and Closing Docket, August 26, 2016, at 41 (Order No. 3490).

Sixth, pursuant to 39 U.S.C. 3692(b)(2) and (c), the Commission proposes the specific requirements for the Postal Service's online dashboard of service performance data for each Market Dominant product. The Commission proposes requiring the Postal Service to present service performance results for each ZIP Code, District, and Area, as well as at the National level, updated on a weekly basis. The dashboard should include a 5-Digit ZIP Code lookup feature that allows the user to see the service performance results for their ZIP Code and match their ZIP Codes with the corresponding District and Area. With respect to the specific service performance information available on the dashboard, it must provide the following data (at a minimum): (1) service performance (measured as a percent on-time delivery and average delivery days) by each Market Dominant mail class, product, and applicable service standard by District, Area, Nation, and 5-Digit ZIP Code; (2) service performance (measured as a percent on-time delivery and average delivery days) by Market Dominant mail class, product, and applicable service standard, by time period of the user's selection, along with the previous two fiscal years; and (3) service performance (measured as a percent on-time delivery and average delivery days) by Market Dominant mail class, product, and applicable service standard based on a selected pair of origin/destination 3-Digit or 5-Digit ZIP Code that a user would choose. The dashboard should improve transparency, promote accountability, provide actionable data, and thus lead to improved service performance. The Commission also proposes that the Postal Service report several other categories of mail on the dashboard: (1) political and election mail; (2) Reply Mail within the First-Class Single-Piece Mail category; and (3) nonprofit mail (specifically USPS Marketing Mail mailpieces that qualify for reduced rates pursuant to 39 U.S.C. 3626(a)(6) and the regulations promulgated thereunder and Periodicals mailpieces that qualify for reduced rates pursuant to 39 U.S.C. 3626(a)(4) and the regulations promulgated thereunder).

Seventh, the Commission proposes to formally codify requirements that will ensure the continuation of the existing auditing program ³ and to consolidate the existing requirements (which are dispersed in multiple orders).⁴ Therefore, consistent with the existing auditing program, the Commission proposes to require that: (1) the Postal Service shall continue with its program to provide third-party audits of its service performance measurement systems; (2) for any measure deemed by the auditor to be not achieved or partially achieved, the Postal Service shall continue to include its response explaining the Postal Service's mitigation plan; (3) the Postal Service shall file each audit report (and its response) with the Commission no later than 60 days after each applicable reporting quarter; and (4) the audit reports shall continue to specifically include inbound and outbound single-piece First-Class Mail International and the Green Card option of the Return Receipt as well as the metrics used to perform the audits and analysis specific to these types of services.

³ See, e.g., FY 2022 Q2 Service Performance Measurement System—Cover Letter and Audit Report, Audit Response, and Measured/Unmeasured Volumes Report, May 31, 2022. The audit reports are published on the Commission's website, available at https://www.prc.gov; tab “Reports/Data Service Reports” and follow the “USPS Reports” hyperlink.

⁴ See Order No. 4697 at 67; Docket No. PI2019-1, Order Granting Request and Approving Use of Internal Service Performance Measurement System, July 1, 2020, at 10-11 (Order No. 5576).

Finally, the Commission proposes several typographical changes to the existing regulations, including updates to terminology and deleting unnecessary references.

List of Subjects in 39 CFR Part 3055

Administrative practice and procedure, Reporting and recordkeeping requirements.

For the reasons stated in the preamble, the Commission proposes to amend 39 CFR part 3055 as follows:

PART 3055—SERVICE PERFORMANCE AND CUSTOMER SATISFACTION REPORTING

1. The authority citation for part 3055 is revised to read as follows:

Authority: 39 U.S.C. 503; 3652; 3653; 3692(b) and (c); 3705.

Subpart A—Annual Reporting of Service Performance Achievements

2. Revise § 3055.1 to read as follows:

§ 3055.1 Annual Reporting of service performance achievements.

For each Market Dominant product specified in the Mail Classification Schedule in part 3040, appendix A to subpart A of part 3040 of this chapter (and for each competitive nonpostal service product specified in the Mail Classification Schedule in part 3040, appendix B to subpart A of part 3040 of this chapter), the Postal Service shall file a report as part of the section 3652 report addressing service performance achievements for the preceding fiscal year.

3. Amend § 3055.2 by revising paragraphs (a) and (j) and by adding paragraphs (l) through (n) to read as follows:

§ 3055.2 Contents of the annual report of service performance achievements.

(a) The items in paragraphs (b) through (n) of this section shall be included in the annual report of service performance achievements.

* * * * *

(j) Documentation showing how data reported at a given level of aggregation were derived from data reported at greater levels of disaggregation. Such documentation shall be in electronic format with all data links preserved. It shall show all formulas used, including volumes and other weighting factors. Any graphical representation of data provided shall also be accompanied by the underlying data presented in spreadsheet form.

* * * * *

(l) For each Market Dominant product, the average time in which the product was delivered, measured by actual delivery days, during the previous fiscal year, provided at the District, Postal Administrative Area, and National levels. “Actual delivery days” shall include all days in which Market Dominant products are eligible for delivery, excluding Sundays and holidays. Such information shall include the following information on dispersion around the average:

(1) The percent of mailpieces delivered within +1 day of the applicable service standard;

(2) The percent of mailpieces delivered within +2 days of the applicable service standard; and

(3) The percent of mailpieces delivered within +3 days of the applicable service standard.

(m) A description of each Site-Specific Operating Plan, including on-time service performance (as a percentage rounded to one decimal place) for each Site-Specific Operating Plan measurement category during the previous fiscal year. Such information shall be at the National level and disaggregated by Division and Region.

(n) A description of the total mail measured and excluded from measurement. Such description shall include:

(1) For each class of Market Dominant products (except Special Services), a report of the reasons that mailpieces were excluded from measurement during the previous fiscal year. The report shall include:

(i) The exclusion reason;

(ii) The exclusion description;

(iii) The number of mailpieces excluded from measurement, which is the sum of all mailpieces excluded from measurement for the individual exclusion reason; and

(iv) The exclusion reason as a percent of total mailpieces excluded from measurement, which is the number of mailpieces excluded from measurement (i.e., provided in paragraph (n)(1)(iii) of this section) divided by the sum of all mailpieces excluded from measurement across all exclusion reason categories (i.e., the sum of all values provided in paragraph (n)(1)(iii) of this section).

(2) The report described in paragraph (n)(1) of this section shall follow the format as shown below:

Table 1 to Paragraph (n)(2)—Exclusion Reasons Report for Fiscal Year
Exclusion reason | Exclusion description | Number of mailpieces excluded from measurement | Exclusion reason as a percent of total exclusions

(3) For each class of Market Dominant products and for each Market Dominant product (except Special Services), a description of the mail volumes measured and un-measured during the previous fiscal year. The description shall explain in detail any notations regarding the Postal Service's inability to collect any data. Corresponding data shall also be provided for the same period last year (SPLY).

(4) The report described in paragraph (n)(3) of this section shall follow the format as shown below:

Table 2 to paragraph (n)(4)—Total Mail Measured/Unmeasured Volumes Report for Fiscal Year
Class/product | ‸‸: Prior FY | ‸‸: SPLY | ‸‸: Prior FY | ‸‸: SPLY | ‸‸: Prior FY | ‸‸: SPLY
Total Number of Pieces (RPW-ODIS)
Total Number of Pieces in Measurement
Total Number of Pieces Eligible for Full-Service IMb
Total Number of Full-Service IMb Pieces Included in Measurement
Total Number of Full-Service IMb Pieces Excluded from Measurement
Total Number of Pieces Not in Measurement
% of Pieces in Measurement Compared to Total Pieces
% of Pieces Not in Measurement Compared to Total Pieces
% of Full-Service IMb Pieces in Measurement Compared to Total IMb Full-Service Pieces
% of Full-Service IMb Pieces Not in Measurement Compared to Total IMb Full-Service Pieces

(5) Descriptions of the current methodologies used to verify the accuracy, reliability, and representativeness of service performance data for each service performance measurement system.

§ 3055.7 [Removed and Reserved].

4. Remove and reserve § 3055.7.

5. Amend § 3055.20 by revising paragraphs (a) and (b) and by adding paragraph (c) to read as follows:

§ 3055.20 First-Class Mail.

(a) For each of the Single-Piece Letters/Postcards, Presorted Letters/Postcards, and Flats products within the First-Class Mail class, report the on-time service performance (as a percentage rounded to one decimal place), disaggregated by mail subject to the overnight, 2-day, 3-day, 4-day, and 5-day service standards, as well as in the aggregate for the 3-to-5-day service standards.

(b) For each of the Outbound Single-Piece First-Class Mail International and Inbound Letter Post products within the First-Class Mail class, report the on-time service performance (as a percentage rounded to one decimal place), disaggregated by mail subject to the 2-day, 3-day, 4-day, and 5-day service standards, as well as in the aggregate for the 3-to-5-day service standards and in the aggregate for all service standards combined.

(c) For each product that does not meet its service goal during the reporting period, report the point impact data for the top ten root causes of on-time service performance failures, at the Postal Administrative Area and National levels, during the previous fiscal year. “Point impact data” means the number of percentage points by which on-time performance decreased due to a specific root cause of failure. Identification and a description of all potential root causes of failure assigned during the previous fiscal year and any changes to the Postal Service's methodology for calculating point impact data shall be included.

6. Revise § 3055.21 to read as follows:

§ 3055.21 USPS Marketing Mail.

(a) For each product within the USPS Marketing Mail class, report the on-time service performance (as a percentage rounded to one decimal place).

(b) For each product within the USPS Marketing Mail class that does not meet its service goal during the reporting period, report the point impact data for the top ten root causes of on-time service performance failures, at the National level, during the previous fiscal year. “Point impact data” means the number of percentage points by which on-time performance decreased due to a specific root cause of failure. Identification and a description of all potential root causes of failure assigned during the previous fiscal year and any changes to the Postal Service's methodology for calculating point impact data shall be included.

7. Revise § 3055.22 to read as follows:

§ 3055.22 Periodicals.

(a) For each product within the Periodicals class, report the on-time service performance (as a percentage rounded to one decimal place).

(b) For each product within the Periodicals class that does not meet its service goal during the reporting period, report the point impact data for the top ten root causes of on-time service performance failures, at the National level, during the previous fiscal year. “Point impact data” means the number of percentage points by which on-time performance decreased due to a specific root cause of failure. Identification and a description of all potential root causes of failure assigned during the previous fiscal year and any changes to the Postal Service's methodology for calculating point impact data shall be included.

8. Revise § 3055.23 to read as follows:

§ 3055.23 Package Services.

(a) For each product within the Package Services class, report the on-time service performance (as a percentage rounded to one decimal place).

(b) For each product within the Package Services class that does not meet its service goal during the reporting period, report the point impact data for the top ten root causes of on-time service performance failures, at the National level, during the previous fiscal year. “Point impact data” means the number of percentage points by which on-time performance decreased due to a specific root cause of failure. Identification and a description of all potential root causes of failure assigned during the previous fiscal year and any changes to the Postal Service's methodology for calculating point impact data shall be included.

9. Add § 3055.25 to read as follows:

§ 3055.25 Nonpostal products.

For each product that is a nonpostal service authorized pursuant to 39 U.S.C. chapter 37, the Postal Service shall report the on-time service performance (as a percentage rounded to one decimal place).

Subpart B—Periodic Reporting of Service Performance Achievements

10. Revise § 3055.30 to read as follows:

§ 3055.30 Periodic reporting of service performance achievements.

For each Market Dominant product specified in the Mail Classification Schedule in part 3040, appendix A to subpart A of part 3040 of this chapter (and for each competitive nonpostal service product specified in the Mail Classification Schedule in part 3040, appendix B to subpart A of part 3040 of this chapter), the Postal Service shall file a Quarterly Report with the Commission addressing service performance achievements for the preceding fiscal quarter (within 40 days of the close of each fiscal quarter, except where otherwise specified by the Commission).

11. Amend § 3055.31 by revising paragraphs (a) and (d) and by adding paragraphs (f) through (i) to read as follows:

§ 3055.31 Contents of the Quarterly Report of service performance achievements.

(a) The items in paragraphs (b) through (h) of this section shall be included in the quarterly report of service performance achievements.

* * * * *

(d) Documentation showing how data reported at a given level of aggregation were derived from data reported at greater levels of disaggregation. Such documentation shall be in electronic format with all data links preserved. It shall show all formulas used, including volumes and other weighting factors. Any graphical representation of data provided shall also be accompanied by the underlying data presented in spreadsheet form.

* * * * *

(f) For each Market Dominant product, the average time in which the product was delivered, measured by actual delivery days, during the previous fiscal quarter, provided at the District, Postal Administrative Area, and National levels. “Actual delivery days” shall include all days in which Market Dominant products are eligible for delivery, excluding Sundays and holidays. Such information shall include the following information on dispersion around the average:

(1) The percent of mailpieces delivered within +1 day of the applicable service standard;

(2) The percent of mailpieces delivered within +2 days of the applicable service standard; and

(3) The percent of mailpieces delivered within +3 days of the applicable service standard.

(g) A description of each Site-Specific Operating Plan, including on-time service performance (as a percentage rounded to one decimal place) for each Site-Specific Operating Plan measurement category during the previous fiscal quarter. Such information shall be by Nation and disaggregated by Division and Region.

(h) A description of the total mail measured and excluded from measurement. Such description shall include:

(1) For each class of Market Dominant products (except Special Services), a report of the reasons that mailpieces were excluded during the previous fiscal quarter. The report shall include:

(i) The exclusion reason;

(ii) The exclusion reason description;

(iii) The number of mailpieces excluded from measurement, which is the sum of all mailpieces excluded from measurement for the individual exclusion reason; and

(iv) The exclusion reason as a percent of total mailpieces excluded from measurement, which is the number of mailpieces excluded from measurement (i.e., provided in paragraph (h)(1)(iii) of this section) divided by the sum of all mailpieces excluded from measurement across all exclusion reason categories (i.e., the sum of all values in provided in paragraph (h)(1)(iii) of this section).

(v) The report shall include information from each quarter in the applicable fiscal year.

(2) The report described in paragraph (h)(1) of this section shall follow the format as shown below:

Table 1 to Paragraph (h)(2)—Exclusion Reasons Report for Fiscal Quarter
Exclusion reason | Exclusion description | Number of mailpieces excluded from measurement: Q1 | Number of mailpieces excluded from measurement: Q2 | Number of mailpieces excluded from measurement: Q3 | Number of mailpieces excluded from measurement: Q4 | Exclusion reason as a percent of total exclusions: Q1 | Exclusion reason as a percent of total exclusions: Q2 | Exclusion reason as a percent of total exclusions: Q3 | Exclusion reason as a percent of total exclusions: Q4

(3) For each class of Market Dominant products and for each Market Dominant product (except Special Services), a description of the mail volumes measured and unmeasured during the previous fiscal quarter. The description shall explain in detail any notations regarding the Postal Service's inability to collect any data. Corresponding data shall also be provided for the same period last year (SPLY). Each report is due within 60 days of the close of each fiscal quarter.

(4) The report described in paragraph (h)(3) of this section shall follow the format as shown below:

Table 2 to Paragraph (h)(4)—Total Mail Measured/Unmeasured Volumes Report for Fiscal Quarter
Class/Product | ‸‸: Prior FQ | ‸‸: SPLY | ‸‸: Prior FQ | ‸‸: SPLY | ‸‸: Prior FQ | ‸‸: SPLY
Total Number of Pieces (RPW-ODIS)
Total Number of Pieces in Measurements
Total Number of Pieces Eligible for Full-Service IMb
Total Number of Full-Service IMb Pieces Included in Measurement
Total Number of Full-Service IMb Pieces Excluded from Measurement
Total Number of Pieces Not in Measurement
% of Pieces in Measurement Compared to Total Pieces
% of Pieces Not in Measurement Compared to Total Pieces
% of Full-Service IMb Pieces in Measurement Compared to Total IMb Full-Service Pieces
% of Full-Service IMb Pieces Not in Measurement Compared to Total IMb Full-Service Pieces

(i) A report of quarterly third-party audit results of its internal service performance measurement system for Market Dominant products. This report shall include a description of the audit measures used and the audit results specific to inbound and outbound single-piece First-Class Mail International and the Green Card option of the Return Receipt service. For any measure deemed by the auditor to be not achieved or only partially achieved, the Postal Service shall include in its report an explanation of its plan to achieve said measure in the future. Each report is due within 60 days of the close of each fiscal quarter.

12. Revise § 3055.45 to read as follows:

§ 3055.45 First-Class Mail.

(a) Single-Piece Letters/Postcards, Presorted Letters/Postcards, and Flats. For each of the Single-Piece Letters/Postcards, Presorted Letters/Postcards, and Flats products within the First-Class Mail class, report the:

(1) On-time service performance (as a percentage rounded to one decimal place), disaggregated by mail subject to the overnight, 2-day, 3-day, 4-day, and 5-day service standards, as well as in the aggregate for the 3-to-5-day service standards, provided at the District, Postal Administrative Area, and National levels; and

(2) Service variance (as a percentage rounded to one decimal place) for mail delivered within +1 day, +2 days, and +3 days of its applicable service standard, disaggregated by mail subject to the overnight, 2-day, 3-day, 4-day, and 5-day service standards, as well as in the aggregate for the 3-to-5-day service standards, provided at the District, Postal Administrative Area, and National levels.

(b) Outbound Single-Piece First-Class Mail International and Inbound Letter Post. For each of the Outbound Single-Piece First-Class Mail International and Inbound Letter Post products within the First-Class Mail class, report the:

(1) On-time service performance (as a percentage rounded to one decimal place), disaggregated by mail subject to the 2-day, 3-day, 4-day, and 5-day service standards, as well as in the aggregate for the 3-to-5-day service standards and in the aggregate for all service standards combined, provided at the Postal Administrative Area and National levels; and

(2) Service variance (as a percentage rounded to one decimal place) for mail delivered within +1 day, +2 days, and +3 days of its applicable service standard, disaggregated by mail subject to the overnight, 2-day, 3-day, 4-day, and 5-day service standards, as well as in the aggregate for the 3-to-5-day service standards and in the aggregate for all service standards combined, provided at the Postal Administrative Area and National levels.

13. Revise § 3055.50 to read as follows:

§ 3055.50 USPS Marketing Mail.

(a) For each product within the USPS Marketing Mail class, report the on-time service performance (as a percentage rounded to one decimal place), disaggregated by the Destination Entry (2-day), Destination Entry (3-day through 4-day), Destination Entry (5-day through 10-day), End-to-End (3-day through 5-day), End-to-End (6-day through 10-day), and End-to-End (11-day through 22-day) entry mail/service standards, provided at the District, Postal Administrative Area, and National levels.

(b) For each product within the USPS Marketing Mail class, report the service variance (as a percentage rounded to one decimal place) for mail delivered within +1 day, +2 days, and +3 days of its applicable service standard, disaggregated by the Destination Entry (2-day), Destination Entry (3-day through 4-day), Destination Entry (5-day through 10-day), End-to-End (3-day through 5-day), End-to-End (6-day through 10-day), and End-to-End (11-day through 22-day) entry mail/service standards, provided at the District, Postal Administrative Area, and National levels.

14. Amend § 3055.55 to revise the introductory text of paragraph (a) to read as follows:

§ 3055.55 Periodicals.

(a) In-County Periodicals. For the In-County Periodicals product within the Periodicals class, report the:

* * * * *

15. Revise § 3055.60 to read as follows:

§ 3055.60 Package Services.

(a) For each product within the Package Services class, report the-on-time service performance (as a percentage rounded to one decimal place), disaggregated by the Destination Entry and End-to-End entry mail, provided at the District, Postal Administrative Area, and National levels.

(b) For each product within the Package Services class, report the service variance (as a percentage rounded to one decimal place) for mail delivered within +1 day, +2 days, and +3 days of its applicable service standard, disaggregated by the Destination Entry and End-to-End entry mail, provided at the District, Postal Administrative Area, and National levels.

§ 3055.65 [Amended]

16. Amend § 3055.65 by removing paragraph (b)(1) and redesignating paragraphs (b)(2) through (5) as paragraphs (b)(1) through (4).

17. Add § 3055.70 to read as follows:

§ 3055.70 Nonpostal Products.

For each product that is a nonpostal service authorized pursuant to 39 U.S.C. chapter 37, the Postal Service shall report the on-time service performance (as a percentage rounded to one decimal place), provided at the District, Postal Administrative Area, and National levels.

18. Add subpart D to read as follows:

Subpart D—Public Performance Dashboard

Sec.
3055.100 Definitions applicable to this subpart.
3055.101 Public Performance Dashboard.
3055.102 Contents of the Public Performance Dashboard.
3055.103 Format for data provided in the Public Performance Dashboard.

§ 3055.100 Definitions applicable to this subpart.

(a) Actual delivery days refers to all days in which Market Dominant products are eligible for delivery, excluding Sundays and holidays.

(b) Election mail refers to items such as ballots, voter registration cards, and absentee applications that an authorized election official creates for voters.

(c) Nonprofit mail refers to USPS Marketing Mail mailpieces that qualify for reduced rates pursuant to 39 U.S.C. 3626(a)(6) and the regulations promulgated thereunder and Periodicals mailpieces that qualify for reduced rates pursuant to 39 U.S.C. 3626(a)(4) and the regulations promulgated thereunder.

(d) Political mail refers to any mailpiece sent for political campaign purposes by a registered candidate, a campaign committee, or a committee of a political party to promote candidates, referendums, or campaigns.

§ 3055.101 Public Performance Dashboard.

The Postal Service shall develop and maintain a publicly available website with an interactive web-tool that provides performance information for Market Dominant products. This website shall be updated on a weekly basis, no later than one month from the date of data collection. The website shall include, at a minimum, the reporting requirements specified in § 3055.102 and adhere to the formatting requirements specified in § 3055.103.

§ 3055.102 Contents of the Public Performance Dashboard.

(a) The items in paragraphs (b) through (l) of this section shall be included in the Public Performance Dashboard.

(b) Within each class of Market Dominant products, for each Market Dominant product and each service standard applicable to each Market Dominant product:

(1) The on-time service performance (as a percentage rounded to one decimal place) for the Nation;

(2) The on-time service performance (as a percentage rounded to one decimal place) for each Postal Administrative Area;

(3) The on-time service performance (as a percentage rounded to one decimal place) for each District; and

(4) The on-time service performance (as a percentage rounded to one decimal place) for each 5-Digit ZIP Code.

(c) Within each class of Market Dominant products, for each Market Dominant product and each applicable service standard:

(1) The average time in which the product was delivered, measured by actual delivery days, for the Nation;

(2) The average time in which the product was delivered, measured by actual delivery days, for each Postal Administrative Area;

(3) The average time in which the product was delivered, measured by actual delivery days, for each District; and

(4) The average time in which the product was delivered, measured by actual delivery days, for each 5-Digit ZIP Code.

(d) Within each class of Market Dominant products, for each Market Dominant product and each applicable service standard:

(1) The on-time service performance (as a percentage rounded to one decimal place) for any given time period that can be selected by a dashboard user within the previous two fiscal years; and

(2) The average time in which the product was delivered, measured by actual delivery days, for any given time period that can selected by the dashboard user within the previous two fiscal years.

(e) Within each class of Market Dominant products, for each Market Dominant product and each applicable service standard:

(1) The on-time service performance (as a percentage rounded to one decimal place) for any given pair of origin/destination 3-Digit or 5-Digit ZIP Codes that can be selected by a dashboard user; and

(2) The average time in which the product was delivered, measured by actual delivery days, for any given pair of origin/destination 3-Digit or 5-Digit ZIP Codes to be selected by the dashboard user.

(f) For Political mail:

(1) The on-time service performance (as a percentage rounded to one decimal place) for the Nation;

(2) The on-time service performance (as a percentage rounded to one decimal place) for each Postal Administrative Area;

(3) The on-time service performance (as a percentage rounded to one decimal place) for each District;

(4) The on-time service performance (as a percentage rounded to one decimal place) for each 5-Digit ZIP Code;

(5) The average time in which the mailpieces were delivered, measured by actual delivery days, for the Nation;

(6) The average time in which the mailpieces were delivered, measured by actual delivery days, for each Postal Administrative Area;

(7) The average time in which the mailpieces were delivered, measured by actual delivery days, for each District; and

(8) The average time in which the mailpieces were delivered, measured by actual delivery days, for each 5-Digit ZIP Code.

(g) For Election mail:

(1) The on-time service performance (as a percentage rounded to one decimal place) for the Nation;

(2) The on-time service performance (as a percentage rounded to one decimal place) for each Postal Administrative Area;

(3) The on-time service performance (as a percentage rounded to one decimal place) for each District;

(4) The on-time service performance (as a percentage rounded to one decimal place) for each 5-Digit ZIP Code;

(5) The average time in which the mailpieces were delivered, measured by actual delivery days, for the Nation;

(6) The average time in which the mailpieces were delivered, measured by actual delivery days, for each Postal Administrative Area;

(7) The average time in which the mailpieces were delivered, measured by actual delivery days, for each District; and

(8) The average time in which the mailpieces were delivered, measured by actual delivery days, for each 5-Digit ZIP Code.

(h) For the First-Class Mail that the Postal Service identifies as Single-Piece Reply Mail:

(1) The on-time service performance (as a percentage rounded to one decimal place) for the Nation;

(2) The on-time service performance (as a percentage rounded to one decimal place) for each Postal Administrative Area;

(3) The on-time service performance (as a percentage rounded to one decimal place) for each District;

(4) The on-time service performance (as a percentage rounded to one decimal place) for each 5-Digit ZIP Code;

(5) The average time in which the mailpieces were delivered, measured by actual delivery days, for the Nation;

(6) The average time in which the mailpieces were delivered, measured by actual delivery days, for each Postal Administrative Area;

(7) The average time in which the mailpieces were delivered, measured by actual delivery days, for each District; and

(8) The average time in which the mailpieces were delivered, measured by actual delivery days, for each 5-Digit ZIP Code.

(i) For Nonprofit mail (within Periodicals and USPS Marketing Mail classes of mail):

(1) The on-time service performance (as a percentage rounded to one decimal place) for the Nation;

(2) The on-time service performance (as a percentage rounded to one decimal place) for each Postal Administrative Area;

(3) The on-time service performance (as a percentage rounded to one decimal place) for each District;

(4) The on-time service performance (as a percentage rounded to one decimal place) for each 5-Digit ZIP Code;

(5) The average time in which the mailpieces were delivered, measured by actual delivery days, for the Nation;

(6) The average time in which the mailpieces were delivered, measured by actual delivery days, for each Postal Administrative Area;

(7) The average time in which the mailpieces were delivered, measured by actual delivery days, for each District; and

(8) The average time in which the mailpieces were delivered, measured by actual delivery days, for each 5-Digit ZIP Code.

(9) The point impact data for the top ten root causes of on-time service performance failures, at the Postal Administrative Area and National levels. “Point impact data” means the number of percentage points by which on-time performance decreased due to a specific root cause of failure. Identification and a description of all potential root causes of failure assigned during the previous fiscal year and any changes to the Postal Service's methodology for calculating point impact data shall be included.

(j) For each Market Dominant product and applicable service standard, the on-time service performance target currently in effect, as well as the on-time service performance target for the previous fiscal year.

(k) A summary of the methodology used to group 5-Digit ZIP Codes into the Postal Administrative Areas and Districts with links to more detailed explanations if applicable.

(l) An application that would allow a dashboard user to initiate a query in order to access, for each Market Dominant product and applicable service standard, the on-time service performance (as a percentage rounded to one decimal place) and average time in which a mailpiece is delivered by inputting the user's street address, 5-Digit ZIP Code, or post office box.

§ 3055.103 Format for data provided in the Public Performance Dashboard.

(a) The results of a user-initiated query and the data underlying the query results should be exportable via a machine-readable format, including but not limited to a comma-separated data file, an Excel spreadsheet, XML, or a JSON file, and such data should be made accessible to any person or entity utilizing tools and methods designed to facilitate access to and extraction of data in bulk, such as an Application Programming Interface (API).

(b) When there is a negative deviation from service performance standards, the dashboard should clearly indicate such deviation from expected performance and present the service performance from the prior week and the same period last year.

By the Commission.
Erica A. Barker,
Secretary.

[FR Doc. 2022-20829 Filed 9-29-22; 8:45 am]

BILLING CODE 7710-FW-P